DEPARTMENT OF JUSTICE

[OMB Number 1121-NEW1]

Agency Information Collection Activities; Proposed eCollection eComments Requested; New; Juvenile Facility Census Program (JFCP)

AGENCY: Office of Justice Programs, Department of Justice.

ACTION: 60-Day notice.

SUMMARY: The National Institute of Justice, Office of Justice Programs, Department of Justice (DOJ), will be submitting the following information collection request to the Office of Management and Budget (OMB) for review and approval in accordance with the Paperwork Reduction Act of 1995.

DATES: Comments are encouraged and will be accepted for 60 days until July 22, 2024.

FOR FURTHER INFORMATION CONTACT:

If you have additional comments especially on the estimated public burden or associated response time, suggestions, or need a copy of the proposed information collection instrument with instructions or additional information, please contact Benjamin Adams, Supervisory Social Science Analyst, National Institute of Justice, 810 Seventh Street NW, Washington, DC 20531 (email: benjamin.adams@usdoj.gov; telephone: 202-616-3687).

SUPPLEMENTARY INFORMATION: Written comments and suggestions from the public and affected agencies concerning the proposed collection of information are encouraged. Your comments should address one or more of the following four points:

—Evaluate whether the proposed collection of information is necessary for the proper performance of the functions of the Office of Juvenile Justice and Delinquency Prevention, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: This request for clearance of the Juvenile Facility Census Program (JFCP) will combine two previously, separately cleared data collections: the Census of Juveniles in Residential Placement (OMB # 1121-0218) and the Juvenile Residential Facility Census (OMB # 1121-0219). The Census of Juveniles in Residential Placement (CJRP), which is administered biennially, collects information from all secure and nonsecure residential placement facilities that house persons younger than age 21 who are held in a residential setting as a result of some contact with the juvenile justice system for an offense. This encompasses both status offenses and delinquency offenses, and includes youth who are either temporarily detained by the court or committed after adjudication for an offense. The CJRP collects information on the characteristics of the youth held for an offense, including offense and demographics, and information on their placement, including adjudication status and length of stay. The Juvenile Residential Facility Census (JRFC), which is administered biennially in the years the CJRP is not administered, collects information about how juvenile facilities operate, the services they provide, and staff training from all secure and nonsecure residential placement facilities that house persons younger than 21 who are held for an offense. The information gathered in these national collections will be used in published reports and statistics. The reports will be made available to the U.S. Congress, Executive Office of the President, practitioners, researchers, students, the media, others interested in juvenile residential facilities, and the general public via the OJP agency websites. The two data collections are being combined into a single clearance packet because they are closely related and designed to be complementary. They are drawn from the same frame, are administered to the same respondents with identical eligibility criteria, have the same reference day, and use the same mode of collection. The collection administrations are deliberately sequenced and scheduled for alternating years because of the complementary nature of the information and overlap in respondents. Additionally, each collections' imputation procedures rely upon information from the other collection, and for some longitudinal analyses, data from both collections are combined to produce published statistics.

Overview of this information collection:

1. Type of Information Collection: New.

2. The Title of the Form/Collection: Juvenile Facility Census Program (JFCP).

3. The agency form number, if any, and the applicable component of the Department sponsoring the collection: The form numbers are CJ-14 (CJRP) and CJ-15 (JRFC). The applicable components within the Department of Justice are the National Institute of Justice and the Office of Juvenile Justice and Delinquency Prevention, in the Office of Justice Programs.

4. Affected public who will be asked or required to respond, as well as the obligation to respond: State, local and tribal governments, individuals or households, and Private Sector-for or not for profit institutions. The obligation to respond is voluntary.

5. An estimate of the total number of respondents and the amount of time estimated for an average respondent to respond: The total estimated respondents is 1,711 for each collection for each year.

It takes an average of 4 hours to complete the CJRP. The total burden for the CJRP is 6,844 hours. It takes an average of 2 hours to complete the JRFC. The total burden for the JRFC is 3,422 hours.

6. An estimate of the total annual burden (in hours) associated with the collection: The average annual burden is 5,703 hours or 17,110 total hours for the 2025 CJRP, 2026 JRFC, and 2027 CJRP.

7. An estimate of the total annual cost burden associated with the collection, if applicable: The estimated annual cost for CJRP and JRFC is $633,054 each. The estimated cost for both collections is $1,266,108 annually.

Total Burden Hours
Activity | Number of respondents | Frequency | Total annual responses | Time per response (hours) | Total annual burden (hours)
2025 CJRP
Data Collection | 1,711 | Annual | 1,711 | 4 | 6,844
2026 JRFC
Data Collection | 1,711 | Annual | 1,711 | 2 | 3,422
2027 CJRP
Data Collection | 1,711 | Annual | 1,711 | 4 | 6,844
Unduplicated Totals for 2025 and 2027 CJRP and 2026 JRFC | 5,133 |  | 5,133 |  | 17,110

If additional information is required contact: Darwin Arceo, Department Clearance Officer, United States Department of Justice, Justice Management Division, Policy and Planning Staff, Two Constitution Square, 145 N Street NE, 4W-218, Washington, DC.

Dated: May 15, 2024.
Darwin Arceo,
Department Clearance Officer for PRA, U.S. Department of Justice.

[FR Doc. 2024-11056 Filed 5-20-24; 8:45 am]

BILLING CODE 4410-18-P